DEPARTMENT OF COMMERCE

International Trade Administration

[A-570-874]

Certain Ball Bearings and Parts Thereof from the People's Republic of China: Notice of Extension of Preliminary Antidumping Duty Determination

AGENCY: Import Administration, International Trade Administration, Department of Commerce.

ACTION: Notice of Extension of Preliminary Antidumping Duty Determination.

EFFECTIVE DATE : July 26, 2002.

FOR FURTHER INFORMATION CONTACT: James Terpstra or Cindy Lai Robinson at (202) 482-3965 and (202) 482-3797, respectively; Import Administration, International Trade Administration, U.S. Department of Commerce, 14th Street and Constitution Avenue NW, Washington, DC 20230.

Postponement of Preliminary Determination

The Department of Commerce (the Department) is postponing the deadline for issuance of the preliminary determination in the antidumping duty investigation of certain ball bearings and parts thereof from the People's Republic of China until October 1, 2002.

On March 25, 2002, the Department initiated the above-referenced investigation. See Notice of Initiation of Antidumping Duty Investigation: Certain Ball Bearings and Parts Thereof from the People's Republic of China, 67 FR 15787 (April 3, 2002). Section 733(b)(1)(A) of the Tariff Act of 1930, as amended (the Act), states that the Department of Commerce (the Department) will issue the preliminary determination of an antidumping duty investigation within 140 days after the date of initiation. Therefore, the notice of initiation stated that the Department would issue its preliminary determination no later than August 12, 2002.

On July 16, 2002, the American Bearing Manufacturers Association (petitioner) made a request pursuant to 19 CFR 351.205(e) for a 50-day postponement of the preliminary determination, pursuant to section 733(c)(1)(A) of the Tariff Act of 1930, as amended, (the Act). Petitioner's request for postponement was timely, and the Department finds no compelling reason to deny the request. See memorandum from Melissa Skinner to Bernard T. Carreau, (July 22, 2002), which is on file in the Central Records Unit, room B-099 of the main Commerce building. Therefore, in accordance with section 733(c)(1) of the Act, the Department is postponing the deadline for issuing the preliminary determination until October 1, 2002. The Department will issue the final determination in this investigation no later than 75 days after the signature date of the preliminary determination.

This notice of postponement is in accordance with section 733(c) of the Act and 19 CFR 351.205(b)(2).

Dated: July 22, 2002.
Bernard T. Carreau,
Acting Assistant Secretary Import Administration.

[FR Doc. 02-19010 Filed 7-25-02; 8:45 am]

BILLING CODE 3510-DS-S